DEPARTMENT OF THE TREASURY

Internal Revenue Service

Open Meeting of the Taxpayer Advocacy Panel Volunteer Income Tax Assistance (VITA) Issue Committee

AGENCY: Internal Revenue Service (IRS) Treasury.

ACTION: Cancellation notice.

SUMMARY: An open meeting of the Taxpayer Advocacy Panel VITA Issue Committee was scheduled to be held Tuesday, July 3, 2007, at Noon, Eastern Time via a telephone conference call to solicit public comment, ideas, and suggestions on improving customer service at the Internal Revenue Service. This is to notify the public that the meeting has been cancelled.

DATES: The cancelled meeting was scheduled to be held Tuesday, July 3, 2007, at Noon Eastern Time.

FOR FURTHER INFORMATION CONTACT: Barbara Toy at 1-888-912-1227, or (414) 231-2360.

SUPPLEMENTARY INFORMATION: Notice is hereby given pursuant to Section 10(a)(2) of the Federal Advisory Committee Act, 5 U.S.C. App. (1988) that a meeting of the Taxpayer Advocacy Panel VITA Issue Committee scheduled to be held Tuesday, July 3, 2007, at Noon, Eastern Time via a telephone conference call has been cancelled. You can submit written comments to the Panel by faxing to (414) 231-2363, or by mail to Taxpayer Advocacy Panel, Stop 1006MIL, P.O Box 3205, Milwaukee, WI 53201-3205, or you can contact us at http://www.improveirs.org to be considered at a future meeting. Public comments will also be welcome during future meetings. Please contact Barbara Toy at 1-888-912-1227 or (414) 231-2360 for additional information.

The agenda for the cancelled meeting included the following: Various VITA Issues.

Dated: May 30, 2007.
John Fay,
Acting Director, Taxpayer Advocacy Panel.

[FR Doc. E7-10949 Filed 6-6-07; 8:45 am]

BILLING CODE 4830-01-P